NUCLEAR REGULATORY COMMISSION

[Docket No. 50-271]

Vermont Yankee Nuclear Power Corporation; Notice of Withdrawal of Application for Amendment to Facility Operating License

The U.S. Nuclear Regulatory Commission (the Commission) has granted a request by Vermont Yankee Nuclear Power Corporation (VYNPC, the licensee) to withdraw its December 21, 1999, as supplemented on September 12 and 19, 2000, application for an amendment to Facility Operating License No. DPR-28, for the Vermont Yankee Nuclear Power Station, located in Windham County, Vermont.

The proposed amendment would have revised the Technical Specifications (TS) to change the control rod block requirements consistent with the BWR/4 Standard Technical Specifications.

The Commission had previously issued a Notice of Consideration of Issuance of Amendment on January 26, 2000 (65 FR 4291). However, by letter dated December 26, 2000, the licensee withdrew the proposed change.

For further details with respect to this action, see the application for amendment dated December 21, 1999, as supplemented on September 12 and 19, 2000, and the licensee's letter dated December 26, 2000, which withdrew the application for license amendment. Documents may be examined, and/or copied for a fee, at the NRC's Public Document room, located at One White Flint North, 11555 Rockville Pike (first floor), Rockville, Maryland, and accessible electronically through the ADAMS Public Electronic Reading Room link at the NRC Web site (http:/­/www.nrc.gov).

Dated at Rockville, Maryland, this 12th day of January 2001.
For the Nuclear Regulatory Commission.
Robert M. Pulsifer,
Project Manager, Section 2, Project Directorate I, Division of Licensing Project Management, Office of Nuclear Reactor Regulation.

[FR Doc. 01-1601 Filed 1-19-01; 8:45 am]

BILLING CODE 7590-01-P